DEPARTMENT OF COMMERCE

Bureau of the Census

Census Advisory Committees

AGENCY: Bureau of the Census, Department of Commerce.

ACTION: Notice of Public Meeting.

SUMMARY: Pursuant to the Federal Advisory Committee Act (Public Law 92-463, as amended by Pub. L. 94-409, Pub. L. 96-523, and Pub. L. 97-375), we are giving notice of a joint meeting followed by separate and concurrently held meetings of the Census Advisory Committees (CAC) on the African American Population, the American Indian and Alaska Native Populations, the Asian Population, the Native Hawaiian and Other Pacific Islander Populations, and the Hispanic Population. The Committees will give de-briefings regarding Census 2000 programs and operations, as well as address issues related to 2010 census effort, including the American Community Survey, and related decennial programs. The five Census Advisory Committees on Race and Ethnicity will meet separately and concurrently in the morning and in the afternoon. Last minute changes to the schedule are possible, which could prevent us from giving advance notice.

DATES: June 19-20, 2001. The June 19 meeting will begin at 8:15 a.m. and end at approximately 5:30 p.m. The June 20 meeting will begin at 8:15 a.m. and end at 5:30 p.m.

ADDRESSES: The meeting will be held at Sheraton Reston Hotel, 11810 Sunrise Valley Drive, Reston, VA 20191.

FOR FURTHER INFORMATION CONTACT: Jeri Green, Committee Liaison Officer, Department of Commerce, U.S. Census Bureau, Room 3619, Federal Building 3, Washington, DC 20233, telephone 301-457-2075, TDD 301-457-2540.

SUPPLEMENTARY INFORMATION: The CACs on the African American Population, the American Indian and Alaska Native Populations, the Asian Population, the Hispanic Population, and the Native Hawaiian and Other Pacific Islander Populations are comprised of nine members each. The Secretary of Commerce appoints the members. The Committees provide an organized and continuing channel of communication between the representative communities and the Census Bureau. The Committee provides an outside user perspective about how research and design plans for the 2010 decennial census, and the development of the American Community Survey and other related programs, will realize decennial census goals and satisfy their representative community needs. They assist the Census Bureau in determining ways that census data can best be disseminated to their communities and other users.

All meetings are open to the public, and a brief period will be set aside on June 20 for public comment and questions. Individuals with extensive questions or statements must submit them in writing to the Committee Liaison Officer, named above, at least three days before the meeting. Seating is available to the public on a first-come, first-serve basis.

These meetings are physically accessible to people with disabilities. Requests for sign language interpretation or other auxiliary aids should be directed to the Committee Liaison Officer.

Dated: May 9, 2001.
William G. Barron, Jr.,
Acting Director, Bureau of the Census.

[FR Doc. 01-12248 Filed 5-15-01; 8:45 am]

BILLING CODE 3510-07-P